OFFICE OF PERSONNEL MANAGEMENT

[Docket ID: OPM-2024-0007]

Submission for Review: Survivor Annuity Election for a Spouse, RI 20-63; Cover Letter Giving Information About the Cost To Elect Less Than the Maximum Survivor Annuity, RI 20-116; Cover Letter Giving Information About the Cost To Elect the Maximum Survivor Annuity, RI 20-117

AGENCY: Office of Personnel Management.

ACTION: 30-Day notice and request for comments.

SUMMARY: In accordance with the Paperwork Reduction Act of 1995, the Office of Personnel Management (OPM) is proposing an extension to a currently approved information collection, OMB Control Number 3206-0174: Survivor Annuity Election for a Spouse, RI 20-63; Cover Letter Giving Information About the Cost to Elect Less Than the Maximum Survivor Annuity, RI 20-116; Cover Letter Giving Information About the Cost to Elect the Maximum Survivor Annuity, RI 20-117.

DATES: Comments are encouraged and will be accepted until July 29, 2024.

ADDRESSES: Written comments and recommendations for this proposed information collection should be sent within 30 days of publication of this notice to http://www.reginfo.gov/public/do/PRAMain. Find this particular information collection request by selecting “Office of Personnel Management” under “Currently Under Review,” then check “Only Show ICR for Public Comment” checkbox.

FOR FURTHER INFORMATION CONTACT: For specific questions related to this information collection activities, please contact: Retirement Services Publications Team, Office of Personnel Management, 1900 E Street NW, Room 3316-L, Washington, DC 20415, Attention: Cyrus S. Benson, or sent via electronic mail to RSPublicationsTeam@opm.gov or faxed to (202) 606-0910 or via telephone at (202) 936-0401.

SUPPLEMENTARY INFORMATION: OPM, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provide the requested data in the desired format. This information collection (OMB Control No. 3206-0174) was previously published in the Federal Register on March 25, 2024, at 89 FR 20711, allowing for a 60-day public comment period. No comments were received for this collection.

The purpose of this notice is to notify the public that OPM is submitting the information collection to the Office of Management and Budget (OMB) for review and to allow an additional 30 days for public comments. OPM is soliciting comments on the proposed information collection request (ICR) that is described below. OMB is especially interested in public comment addressing the following issues: (1) whether this collection is necessary to the proper functions of OPM; (2) whether this information will be processed and used in a timely manner; (3) the accuracy of the burden estimate; (4) ways in which OPM may enhance the quality, utility, and clarity of the information to be collected; and (5) ways in which OPM may minimize the burden of this collection on the respondents, including through the use of information technology. Written comments received in response to this notice will be considered public records.

RI 20-63 is used by annuitants to elect a reduced annuity with a survivor annuity for their spouse. RI 20-116 is a cover letter for RI 20-63 giving information about the cost to elect less than the maximum survivor annuity. This letter is used to supply the information requested by the annuitant about the cost of electing less than the maximum annuity. RI 20-117 is a cover letter for RI 20-63 giving information about the cost to elect the maximum survivor annuity.

Analysis

Agency: Retirement Operations, Retirement Services, Office of Personnel Management.

Title: Survivor Annuity Election for a Spouse; Cover Letter Giving Information about the Cost to Elect Less Than the Maximum Survivor Annuity; Cover Letter Giving Information about the Cost to Elect the Maximum Survivor Annuity.

OMB Number: 3206-0174.

Frequency: On occasion.

Affected Public: Individuals or Households.

Number of Respondents: RI 20-63 = 2,400; RI 20-116 & RI 20-117 = 200.

Estimated Time per Respondent: 55 Minutes [RI 20-63 = 45 minutes; RI 20-116 or RI 20-117 = 10 minutes].

Total Burden Hours: 1,834.

Office of Personnel Management.
Kayyonne Marston,
Federal Register Liaison.

[FR Doc. 2024-14183 Filed 6-27-24; 8:45 am]

BILLING CODE 6325-38-P